OFFICE OF MANAGEMENT AND BUDGET

Public Availability of Fiscal Year 2007 Agency Inventories Under the Federal Activities Inventory Reform Act

AGENCY: Office of Management and Budget, Executive Office of the President.

ACTION: Notice of Public Availability of Agency Inventory of Activities That Are Not Inherently Governmental and of Activities That Are Inherently Governmental.

SUMMARY: The Federal Activities Inventory Reform (FAIR) Act, Public Law 105-270, requires agencies to develop inventories each year of activities performed by their employees that are not inherently governmental—i.e., inventories of commercial activities. The FAIR Act further requires OMB to review the inventories in consultation with the agencies and publish a notice of public availability in the Federal Register after the consultation process is completed. In accordance with the FAIR Act, OMB is publishing this notice to announce the availability of inventories from the agencies listed below. These inventories identify both commercial activities and activities that are inherently governmental.

This is the first release of the FAIR Act inventories for FY 2007. Interested parties who disagree with the agency's initial judgment may present a challenge to the agency regarding the inclusion or the omission of an activity on the list of activities that are not inherently governmental within 30 working days and, if not satisfied with this review, may appeal to a higher level within the agency.

The Office of Federal Procurement Policy has made available a FAIR Act User's Guide through its Internet site: http://www.whitehouse.gov/omb/procurement/fair-index.html. This User's Guide will help interested parties review FY 2007 FAIR Act inventories.

Paul A. Denett,
Administrator.

Attachment—First Fair Act Release FY 2007
Commodity Futures Trading Commission | Ms. Sonda R. Owens, (202) 418-5182, http://www.cftc.gov/files/cftc/fairact2007inventory.pdf.
Department of Agriculture | Ms. Ava Lee, (202) 720-1179, http://www.usda.gov/ocfo.
Department of Agriculture (IG) | Mr. Rod DeSmet, (202) 720-6979, http://www.usda.gov/oig/rptsbulletins.htm.
Department of Commerce | Ms. Delia Davis, (202) 482-4560, http://oamweb.osec.doc.gov/CS_doc_inventories.html.
Department of Education | Mr. Gary Weaver, (202) 245-6138, http://www.ed.gov/about/offices/list/ocfo/2007fair.html.
Department of Health and Human Services | Mr. Michael Tulenko, (202) 690-5803, http://www.hhs.gov/ogam/oam/fair.
Department of Homeland Security | Mr. David Childs, (202) 447-5266, http://www.dhs.gov/dhspublic/interapp/editorial/editorial_0504.xml.
Department of Housing and Urban Development | Mr. Kenneth A. Holland, (202) 402-3828, http://www.hud.gov/offices/CFO/FAIRAct/cover.cfm.
Department of Housing and Urban Development (IG) | Ms. Kisha Allen, (202) 402-8186, http://www.hudoig.gov.
Department of Justice | Mr. Larry Silvis, (202) 616-3754, http://www.usdoj.gov/jmd/pe/preface.htm.
Department of Labor | Mr. Larry Clark, (202) 693-4020, http://www.dol.gov/oasam/programs/boc/.
Department of State | Ms. Valerie Dumas, (703) 516-1506, http://www.state.gov.
Department of the Interior | Mr. Robert Gordon, (202) 219-0727, http://www.doi.gov/perfmgt/competitivesourcing.
Department of the Treasury | Mr. Jim Sullivan, (202) 622-9395, http://www.treas.gov/fair.
Department of Transportation | Mr. Thomas F. Kaplan, (202) 366-7784, http://www.dot.gov/ost/m60/fairact/.
Environmental Protection Agency | Mr. Ed Murphy, (202) 566-4456, http://www.epa.gov/oarm/inventory/2007/2007inventory.htm.
Equal Employment Opportunity Commission | Ms. Doreen Starkes, (202) 663-4240, http://www.eeoc.gov.
Farm Credit Administration | Mr. Philip Shebest, (703) 883-4146, http://www.fca.gov/FCAWeb/fairact.htm.
Federal Communications Commission | Ms. Bonita Tingley, (202) 418-0293, http://www.fcc.gov/omd/reports.html.
Federal Energy Regulatory Commission | Ms. Kimberly Fernandez, (202) 502-8302, http://www.ferc.gov.
Federal Maritime Commission | Mr. Peter King, (202) 523-5800, http://www.fmc.gov.
Federal Trade Commission | Ms. Darlene Cossette, (202) 326-3255, http://www.ftc.gov/fairact.
General Services Administration | Mr. Paul Boyle, (202) 501-0324, http://www.gsa.gov.
National Aeronautics and Space Administration | Ms. Ann Sharpe, (202) 358-0484, http://www.competitivesourcing.nasa.gov.
National Archives and Records Administration | Ms. Susan Ashtianie, (301) 837-1490, http://www.archives.gov/about/plansreports/fairact/.
National Endowment for the Arts | Mr. Laurence M. Baden, (202) 682-5534, http://www.arts.gov.
Office of Federal Housing Enterprise Oversight | Mr. Mark Laponsky, (202) 414-3832, http://www.ofheo.gov.
Office of Personnel Management | Mr. Ronald C. Flom, (202) 606-3207, http://www.opm.gov/procure/fairactinventory/.
Office of Special Counsel | Ms. Sharyn Danch, (202) 254-3600, http://www.osc.gov.
Small Business Administration | Mr. Richard Brechbiel, (202) 205-6784, http://www.sba.gov/A76.
Smithsonian Institution | Mr. Ken Johnson, (202) 633-5211, http://www.si.edu.
Social Security Administration | Mr. Dennis Wilhite, (410) 966-6988, http://www.socialsecurity.gov/fair/FAIRact.htm.
United States Holocaust Memorial Museum | Mr. Lawrence Swiader, (202) 488-6579, http://www.ushmm.org/notices/fair_act/2007.ls.

[FR Doc. E8-13500 Filed 6-16-08; 8:45 am]

BILLING CODE 3110-01-P